OFFICE OF SCIENCE AND TECHNOLOGY POLICY

2016 National Nanotechnology Initiative Strategic Plan; Notice of Availability and Request for Public Comment

ACTION: Notice of Availability and Request for Public Comment.

SUMMARY: The National Nanotechnology Coordination Office (NNCO), on behalf of the Nanoscale Science, Engineering, and Technology (NSET) Subcommittee of the Committee on Technology; National Science and Technology Council (NSTC); announces the availability of the draft 2016 National Nanotechnology Initiative (NNI) Strategic Plan for public comment. The draft plan is posted at www.nano.gov/2016strategy. Comments of approximately one page or less in length are requested.

DATES: Comments must be received by September 23, 2016.

ADDRESSES: The draft 2016 NNI Strategic Plan is available on the NNI Web site, www.nano.gov/2016strategy. The public is encouraged to submit comments electronically through www.nano.gov/2016strategy, or via email to 2016NNIStrategy@nnco.nano.gov. Please reference page and line numbers in your response, as appropriate. For individuals who do not have access to the internet, comments may be submitted in writing to: Stacey Standridge, ATTN: NNI Strategic Plan Comments, 4201 Wilson Blvd., Stafford II, Suite 405, Arlington, VA 22230.

FOR FURTHER INFORMATION CONTACT: Stacey Standridge, National Nanotechnology Coordination Office, 703-292-8103, sstandridge@nnco.nano.gov.

SUPPLEMENTARY INFORMATION: The NNI is a U.S. Government R&D program involving 20 departments and independent agencies, 11 of which have budgets for nanotechnology R&D, working together toward the common vision of a future in which the ability to understand and control matter at the nanoscale level leads to a revolution in technology and industry that benefits society. The combined, coordinated efforts of these agencies have accelerated discovery, development, and deployment of nanotechnology towards agency missions and the broader national interest.

The NNI Strategic Plan describes the NNI vision and goals and the strategies by which these goals are to be achieved. The plan includes a description of the NNI investment strategy and the program component areas called for by the 21st Century Research and Development Act of 2003, and it also identifies specific objectives toward collectively achieving the NNI vision. This plan updates and replaces the NNI Strategic Plan of February 2014.

The NNI Strategic Plan provides the framework that underpins the nanotechnology-related activities of the NNI agencies. Its aim is to ensure that advancements in nanotechnology and its applications continue in this vital R&D enterprise, while potential concerns about current and future applications are also addressed. The purpose of the Strategic Plan is to catalyze achievements in support of the goals and vision of the NNI by providing guidance for agency leaders, program managers, and the research community regarding the planning and implementation of Federal nanotechnology R&D investments and activities.

Ted Wackler,
Deputy Chief of Staff and Assistant Director.

[FR Doc. 2016-21796 Filed 9-12-16; 8:45 am]

BILLING CODE 3270-F6-P